EXPORT-IMPORT BANK OF THE UNITED STATES

Notice of Open Special Meeting of the Sub-Saharan Africa Advisory Committee (SAAC) of the Export-Import Bank of the United States (Export-Import Bank)

SUMMARY: The Sub-Saharan Africa Advisory Committee was established by Public Law 105-121, November 26, 1997, to advise the Board of Directors on the development and implementation of policies and programs designed to support the expansion of the Bank's financial commitments in Sub-Saharan Africa under the loan, guarantee and insurance programs of the Bank. Further, the committee shall make recommendations on how the Bank can facilitate greater support by U.S. commercial banks for trade with Sub-Saharan Africa.

Time and Place: February 16, 2005, at 9:30 a.m. to 12:30 p.m. The meeting will be held at the Export-Import Bank in Room 1143, 811 Vermont Avenue, NW., Washington, DC 20571.

Agenda: Given the entire new membership on the advisory committee, the meeting will begin with an ethics briefing applicable to non-government appointees who serve on such a committee followed by a review of the 2004 Ex-Im Bank report to the U.S. Congress on the Bank's activities in sub-Saharan Africa specifically including a report on the September 2004 “Increasing Capital Flows to Africa” conference in Johannesburg co-sponsored with the Corporate Council on Africa; a review of the current year's business development efforts in the region; a status report on the Millennium Challenge Corporation as it relates to the selected African countries; and planning for the Africa panel session at the April 14-15 annual Ex-Im Bank meeting.

Public Participation: The meeting will be open to public participation, and the last 10 minutes will be set aside for oral questions or comments. Members of the public may also file written statement(s) before or after the meeting. If any person wishes auxiliary aids (such as a sign language interpreter) or other special accommodations, please contact, prior to February 16, 2005, Barbara Ransom, Room 1241, 811 Vermont Avenue, NW., Washington, DC 20571, voice: (202) 565-3525 or TDD (202) 565-3377.

FOR FURTHER INFORMATION CONTACT: for further information, contact Barbara Ransom, Room 1241, 811 Vermont Avenue, NW., Washington, DC 20571, (202) 565-3525.

Peter Saba,
General Counsel.

[FR Doc. 05-1520 Filed 1-26-05; 8:45 am]

BILLING CODE 6690-01-M